DEPARTMENT OF AGRICULTURE

Forest Service

Nez Perce National Forest; Idaho County, ID; Meadow Face Stewardship Pilot Project

AGENCY: Forest Service, USDA.

ACTION: Notice of intent to prepare a supplemental environmental impact statement.

(Authority: 40 CFR 1502.9)

SUMMARY: The Forest Service will prepare a supplemental environmental impact statement (“SEIS”) for the Meadow Face Stewardship Pilot Project on the Nez Perce National Forest, Clearwater Ranger District, in Idaho County, Idaho, for the purpose of completing the cumulative effects analysis referred to in United States District Court Judge Edward J. Lodge's March 31, 2005 unpublished order in Friends of the Clearwater v. Lohn, Case No. CV04-384-C-EJL (D. Idaho). The court in that case issued a preliminary injunction against further timber harvesting under the Meadow Face Project until the Forest Service complies with the requirements for a cumulative effects analysis under the National Environmental Policy Act (“NEPA”). The court stated, quoting Lands Council v. Powell, 395 F.3d 1019 (9th Cir. 2005), that the final environmental impact statement (“FEIS”) for the Meadow Face Project “should have provided adequate data of time, type, place and scale of past timber harvest and should have explained in sufficient detail how different project plans and harvest methods affected the environment.” Friends of the Clearwater, unpub. ord. at 31 (quoting Lands Council, 395 F.3d 1019 at 1028). Regarding the FEIS's analysis of cumulative effects from grazing, the court stated as follows:

The Forest Service's analysis of grazing * * * does not specifically describe the history of grazing in the Project Area, i.e., by providing a catalog of where, and how much, grazing has occurred in the Watershed, or where and the extent to which it is occurring now. The agency's failure to provide adequate data of time, type, place and scale of past, present and reasonably foreseeable grazing activities in the Project Area precludes the public and the decision maker from having necessary information to evaluate the alternatives presented in the FEIS.

Id. at 32. The Forest Service hereby gives notice that it will prepare a SEIS in response to the court's preliminary injunction order.

DATES: Comments concerning the cumulative effects analysis must be received by April 17, 2006.

ADDRESSES: Send written comments to Darcy Pederson, District Ranger, 1005 Highway 13, Grangeville, ID 83530, Attn: Meadow Face Stewardship.

FOR FURTHER INFORMATION CONTACT: David Harper, Interdisciplinary Team Leader, Clearwater Ranger District, at the address above, or via telephone at (208) 983-1963.

SUPPLEMENTARY INFORMATION: The Meadow Face Stewardship Pilot Project was initially scoped on August 15, 2000. The Notice of Intent to prepare the EIS was published in the Federal Register, 66 FR 13700, on March 7, 2001. The Draft EIS was sent out for a 45-day comment period in April of 2001. The Notice of Availability for the Draft EIS was published in the Federal Register, 66 FR 37956, on July 20, 2001. A Notice of Availability for the Final EIS was published in the Federal Register, 67 FR 40923, on June 7, 2002. The Record of Decision (“ROD”) was signed by the Nez Perce National Forest Supervisor on February 11, 2003. The supervisor selected Alternative 4B as displayed in the FEIS, with some modifications described on page 12 of the ROD, for implementation.

On June 14, 2004, several environmental groups (led by Friends of the Clearwater out of Moscow, Idaho) filed a lawsuit against D. Robert Lohn (National Oceanic and Atmospheric Administration); William T. Hogarth (National Oceanic and Atmospheric Administration); the National Oceanic and Atmospheric Administration; Donald L. Evans (Secretary of the Department of Commerce); Gail Kimbell (Northern Regional Forester, USDA Forest Service); Ann N. Veneman (Secretary of the Department of Agriculture); and the United States Forest Service; Plaintiffs include Friends of the Clearwater, Alliance for the Wild Rockies, Idaho Sporting Congress, and the Ecology Center. Plaintiffs sought a preliminary injunction against the Meadow Face Project, and on March 31, 2005, the court issued an order enjoining “further timber harvesting * * * until the Forest Service complies with the requisite NEPA cumulative effects analysis.” Friends of the Clearwater, unpub. ord. at 57.

Purpose and Need for Action

The Final Environmental Impact Statement (February 2002) provided a detailed description of the purpose and need for action. It was noted that the existing condition of aquatic and soil resources and vegetation in the analysis area does not meet the desired condition and/or departs from the historic range. The project was proposed to begin remediation of the effects of past actions, and to return various resource conditions to within the historic range of variability. The purpose and need for action from the Final Environmental Impact Statement (February 2002) remains unchanged. The purpose for preparing the proposed SEIS is to complete the cumulative effects analysis referred to by the court in Friends of the Clearwater.

Proposed Action

The FEIS (February 2002) and ROD (February 2003) provided a detailed description of the original proposed action (Alternative 2). Alternative 2 focused on activities that would improve aquatic and vegetative elements of the analysis area. The proposal was formulated to address conditions and changes needed to achieve the desired conditions and specific goals and objectives described in the Nez Perce Forest Plan.

With the record of decision of February 11, 2003, the Nez Perce National Forest Supervisor selected Alternative 4B as displayed in the FEIS, with some modifications for implementation. The decision included the following activities: Maintain 102 miles of road (12.5 deferred maintenance), construct 12 miles of temporary road, decommission 91 miles of road, convert 5 miles of road to trail, construct 0.1 mile of new OHV trail, maintain dispersed campsites where roads are decommissioned, rehabilitate about 3 miles of stream, harvest timber on up to 3,735 acres, prescribe burn 7,100 acres, replace 45 culverts, apply dust abatement to 5 miles of road, treat 200 acres of existing noxious weeds, restore native plant species in McComas Meadows, restore 550 acres of compacted soils, stabilize the Meadow Creek Slide, and install improvements at McComas/Blacktail Junction, Camp 58, and Quartz Ridge dispersed recreation sites. Additionally, the Forest Supervisor decided to make three site specific amendments to the Nez Perce Forest Plan.

A portion of the timber harvest covered by the Record of Decision (Yew Rock Timber Sale) commenced on March 26, 2004 and was ordered to be ceased following the court's preliminary injunction order of March 31, 2005. To date, the following activities have been implemented in the Environmental Impact Statement project area: replacement of two culverts, stabilization of three sites along an irrigation ditch, decommissioning of 23 miles of road, treatment of noxious weed on 141 acres, maintenance of 34 miles of road, development of one rock source, timber harvest on 730 acres, and construction of 8.6 miles of temporary road.

Responsible Official

The responsible official for this project is Jane Cottrell, the Nez Perce National Forest Supervisor. Comments regarding the cumulative effects analysis for this project should be sent to the address and contacts identified above and should be submitted within 45-days of publication of this notice in the Federal Register. A Draft Supplemental Environmental Impact Statement (SEIS) is expected to be available by late May 2006 and the Final SEIS is expected in late summer 2006.

Nature of Decision To Be Made

The Forest Supervisor will decide whether to continue implementation of Alternative 4B, as planned, or whether to modify or terminate implementation of the alternative in light of the revised cumulative effect analysis.

Scoping Process

The U.S. Forest Service uses the scoping process required by the National Environmental Policy Act (NEPA) for all major Federal actions. NEPA requires a systematic, interdisciplinary approach to ensure integrated application of the natural and social sciences and the environmental design arts in any planning and decision-making that affects the human environment (42 U.S.C. 4332(2)(A)).

Recently, the Council on Environmental Quality issued guidance on the preparation of cumulative effects analyses. Memorandum from James L. Connaughton, Chairman, Council on Environmental Quality, to Heads of Federal Agencies (June 24, 2005). To determine what information is necessary for a cumulative effects analysis, the CEQ Guidance recommends agencies use scoping to determine the extent to which information is “relevant to reasonably foreseeable significant adverse impacts,” is “essential to a reasoned choice among alternatives,” and can be obtained without exorbitant cost. Id. (quoting 40 CFR 1502.22). Based on scoping, agencies have discretion to determine whether, and to what extent, information about the specific nature, design, or present effects of a past action is useful for the agency's analysis of the effects of a proposal for agency action and its reasonable alternatives. Id.

The CEQ Guidance further states agencies “should be guided in their cumulative effects analysis by the scoping process, in which agencies identify the scope and ‘significant’ issues to be addressed in an environmental impact statement.” Id. at 2 (quoting 40 CFR 1500.1(b), 1500.4(g), 1501.7, 1508.25). “With respect to past actions, during the scoping process and subsequent preparation of the analysis, the agency must determine what information regarding past actions is useful and relevant to the required analysis of cumulative effects.” Id. at 3.

Comment Requested

This notice of intent initiates the scoping process which guides the development of the supplemental environmental impact statement. Comments regarding the revised cumulative effects analysis will be accepted for 45 days after this notification in the Federal Register. These comments will help the Forest Service determine the scope of the requisite cumulative effects analysis, and what information regarding past actions is useful and relevant. Send written comments to Darcy Pederson, District Ranger, 1005 Highway 13, Grangeville, Idaho 83530, Attn: Meadow Face Stewardship.

Early Notice of Importance of Public Participation in Subsequent Environmental Review

A draft supplemental environmental impact statement will be prepared after consideration of responses to this scoping and completion of the requisite cumulative effects analysis. The comment period on the draft supplemental environmental impact statement will be 45 days from the date the Environmental Protection Agency publishes the notice of availability in the Federal Register.

It is important to give reviewers notice of several court rulings related to public participation in the environmental review process. First, reviewers of the draft supplemental environmental impact statement must structure their comments so they are meaningful and alert the agency to the reviewer's position and contentions. Vermont Yankee Nuclear Power Corp. v. NRDC, 435 U.S. 519, 553 (1978). Also, environmental objections that could be raised at the draft supplemental environmental impact statement stage, but that are not raised until after completion of the final supplemental environmental impact statement, may be waived or dismissed by the courts. City of Angoon v. Hodel, 803 F.2d 1016, 1022 (9th Cir. 1986) and Wisconsin Heritages, Inc. v. Harris, 490 F. Supp. 1334, 1338 (E.D. Wis. 1980). It is very important that those interested in the cumulative effects analysis for the Meadow Face Stewardship Pilot Project participate by the close of the 45-day comment period on the draft supplemental environmental impact statement so that substantive comments and objections are made available to the Forest Service at a time when it can meaningfully consider them and respond to them in the final supplemental environmental impact statement.

To assist the Forest Service in completing the final supplemental environmental impact statement, comments on the draft supplemental environmental impact statement will need to be as specific as possible. It is also helpful if comments refer to specific pages or chapters of the draft statement. Reviewers may wish to refer to the Council on Environmental Quality Regulations for implementing the procedural provisions of the National Environmental Policy Act at 40 CFR 1503.3 in addressing these points.

Comments received in response to this scoping notice as well as comments received on the subsequent Supplemental Environmental Impact Statement, including the names and addresses of those who comment, will be considered part of the public record on this proposal and will be available for public inspection.

(Authority: 40 CFR 1501.7 and 1508.22; Forest Service Handbook 1909.15, Section 21)

Dated: February 10, 2006.
Jane L. Cottrell,
Forest Supervisor.

[FR Doc. 06-1982 Filed 3-2-06; 8:45 am]

BILLING CODE 3410-11-M